DEPARTMENT OF ENERGY

Proposed Agency Information Collection Revision; Correction

AGENCY: Office of Energy Efficiency and Renewable Energy, U.S. Department of Energy.

ACTION: Notice and request for OMB review and comment; correction.

SUMMARY: The Department of Energy (DOE) published in the Federal Register on February 21, 2024, a notice of a Proposed Agency Information Collection Revision. DOE's Office of Energy Efficiency and Renewable Energy (EERE) had submitted to the Office of Management and Budget (OMB) for clearance, a proposal for a three-year extension, with changes, of a collection of information under the provisions of the Paperwork Reduction Act of 1995. This document makes a correction to that notice.

FOR FURTHER INFORMATION CONTACT: Requests for additional information or copies of the EERE Environmental Questionnaire should be directed to Andrew M. Montano at: EEREEQComments@ee.doe.gov. The EERE Environmental Questionnaire also is available for reviewing in the Golden Field Office Public Reading Room at: www.energy.gov/node/2299401. If you have difficulty accessing this document, please contact Casey Strickland at (720) 356-1575.

Correction

In the Federal Register of February 21, 2024, FR Doc. 2024-03470 (89 FR 13060), under the FOR FURTHER INFORMATION CONTACT section, in the first sentence, remove the email address “EREEQComments@ee.doe.gov” and add in its place “EEREEQComments@ee.doe.gov”.

Signing Authority

This document of the Department of Energy was signed on February 29, 2024, by Matthew Blevins, Director, Environment, Safety and Health Office, Golden Field Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 1, 2024.
Treena V. Garrett,
Federal Register Liaison Officer, U.S. Department of Energy.

[FR Doc. 2024-04742 Filed 3-5-24; 8:45 am]

BILLING CODE 6450-01-P